DEPARTMENT OF TRANSPORTATION

Federal Aviation Administration

[Docket No. 2020-0752]

Agency Information Collection Activities: Requests for Comments; Clearance of Renewed Approval of Information Collection: Service Difficulty Report

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on July 2, 2024. The collection involves operators or repair stations report any malfunctions and defects to the Administrator. The information collected allows the FAA to evaluate its certification standards, maintenance programs, and regulatory requirements. It is also the basis for issuance of Airworthiness Directives designed to prevent unsafe conditions and accidents.

DATES: Written comments should be submitted by October 30, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Mark E. Williams by email at: Mark.E.Williams@FAA.gov; phone: (816) 329-4042.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0663.

Title: Service Difficulty Report.

Form Numbers: 8070-1, 8040-4.

Type of Review: Renewal of an information collection.

Background: The Federal Register Notice with a 60-day comment period soliciting comments on the following collection of information was published on July 2, 2024 (89 FR 54951). This collection affects certificate holders operating under 14 CFR part 121, 125, 135, and 145 who are required to report service difficulties and malfunction or defect reports. The data collected identifies mechanical failures, malfunctions, and defects that may be a hazard to the operation of an aircraft. The FAA uses this data to identify trends that may facilitate the early detection of airworthiness problems. When defects are reported which are likely to exist on other products of the same or similar design, the FAA may disseminate safety information to a particular section of the aviation community.

Respondents: 36,000.

Frequency: Information is collected on occasion.

Estimated Average Burden per Response: 5 Minutes.

Estimated Total Annual Burden: 3,000.

Issued in Oklahoma City, OK, on September 24, 2024.
Andrew Seliga,
Section Manager, Systems Management Branch/Data Governance & Information Support Tools, Flight Standards Service, Office of Aviation Safety, AFS-950.

[FR Doc. 2024-22272 Filed 9-27-24; 8:45 am]

BILLING CODE 4910-13-P